COMMODITY FUTURES TRADING COMMISSION

Request for Information on Climate-Related Financial Risk

AGENCY: Commodity Futures Trading Commission.

ACTION: Extension of comment period.

SUMMARY: The Commodity Futures Trading Commission (“CFTC” or “Commission”) is extending the comment period for the Request for Information on Climate-Related Financial Risk) (“RFI”) that was published on June 8, 2022 in the Federal Register.

DATES: The comment period for the RFI is extended until October 7, 2022.

ADDRESSES: You may submit comments, identified by the name of the release, “Climate-Related Financial Risk RFI”, by any of the following methods:

• CFTC Comments Portal: https://comments.cftc.gov. Select the “Submit Comments” link for this release and follow the instructions on the Public Comment Form.

• Mail: Send to Christopher Kirkpatrick, Secretary of the Commission, Commodity Futures Trading Commission, Three Lafayette Centre, 1155 21st Street NW, Washington, DC 20581.

• Hand Delivery/Courier: Follow the same instructions as for Mail, above.

Please submit your comments using only one of these methods. Submissions through the CFTC Comments Portal are encouraged.

All comments must be submitted in English, or if not, accompanied by an English translation. Comments will be posted as received to https://comments.cftc.gov. You should submit only information that you wish to make available publicly. If you wish the Commission to consider information that you believe is exempt from disclosure under the Freedom of Information Act (“FOIA”), a petition for confidential treatment of the exempt information may be submitted according to the procedures established in § 145.9 of the Commission's regulations.¹ The Commission reserves the right, but shall have no obligation, to review, pre-screen, filter, redact, refuse or remove any or all of your submission from https://comments.cftc.gov that it may deem to be inappropriate for publication, such as obscene language. All submissions that have been redacted or removed that contain responses to the Request for Information will be retained in the public comment file and may be accessible under the FOIA.

¹ 17 CFR 145.9.

FOR FURTHER INFORMATION CONTACT: Abigail S. Knauff, (202) 418-5123, aknauff@cftc.gov, Deputy, Climate Risk Unit, Commodity Futures Trading Commission, Three Lafayette Centre, 1151 21st Street NW, Washington, DC 20581.

SUPPLEMENTARY INFORMATION: On June 2, 2022, the Commission approved for publication in the Federal Register the RFI. The RFI was published in the Federal Register on June 8, 2022, with a 60-day comment period scheduled to close on August 8, 2022.² Based on the broad range of topics addressed in the RFI, the Commission has determined to extend the comment period by 60 days. Accordingly, the comment period for the RFI is open through October 7, 2022.

² 87 FR 34856 (June 2, 2022).

Issued in Washington, DC, on July 18, 2022, by the Commission.
Robert Sidman,
Deputy Secretary of the Commission.

Note: The following appendix will not appear in the Code of Federal Regulations.

Appendix To Request for Information on Climate-Related Financial Risk—Voting Summary

On this matter, Chairman Behnam and Commissioners Johnson, Goldsmith Romero, Mersinger, and Stump voted in the affirmative. No Commissioner voted in the negative.

[FR Doc. 2022-15621 Filed 7-20-22; 8:45 am]

BILLING CODE 6531-01-P